MILLENNIUM CHALLENGE CORPORATION

[MCC FR 09-09]

Request for Information From the Private Sector for Philippines Compact Program Development

AGENCY: Millennium Challenge Corporation.

ACTION: Invitation for private sector input.

SUMMARY: The Millennium Challenge Corporation (“MCC”) is a U.S. Government agency created in 2004 to administer the Millennium Challenge Account. Its mission is to reduce poverty through the promotion of sustainable economic growth. Since 2004, MCC has signed Compact programs with eighteen partner countries ranging from $66 million to $698 million. In December 2008, the Government of the Republic of the Philippines through “MCA-Philippines” presented a proposal including six projects to MCC for potential Compact funding. This Request for Information (“RFI”) aims to solicit feedback from the private sector on the five proposed projects that are entering the due diligence phase.

Authority: 22 U.S.C. 7701 et seq.

SUPPLEMENTARY INFORMATION: This solicitation has the following objectives: (a) Share best practices and private sector experiences on similar projects from other countries; (b) Generate opportunities for leverage of Compact funds with private sector financing, trade, and investment; and (c) Solicit information about opportunities and challenges facing businesses in the sectors which have been identified for possible Compact projects.

This solicitation is focused on the five following project proposals, which are posted publicly in full detail at http://www.mcap.ph/:

• Secondary National Roads Development (US$191 million).

• Empowerment and Development Project for Poor Communities or “KALAHI-CIDSS” 2 (US$140 million).

• Conditional Cash Transfer (CCT) Philippines or “4Ps” (US$227 million).

• Sustainable Upland Watershed Management and Productivity Enhancement through Small Water Impounding Projects or “SWIP” (US$43 million).

• Integrated Revenue Information System (IRIS) for Sustained Fiscal Governance (US$148 million).

Where possible, respondents are encouraged to provide information based on experience in the country. Experiences from other countries may also be applicable. MCA-Philippines may use information provided by the private sector to structure projects for Compact funding.

FOR FURTHER INFORMATION: Visit http://www.mcap.ph/RFI_Philippines_Final_in_PDF.pdf and http://www.mcc.gov/countries/philippines/index.php. Responses to and questions about this Request for Information should be e-mailed to mcap09@mcap.ph and to psi@mcc.gov.

DATES: Companies, other organizations, and individuals are invited to submit responses on or before Tuesday, March 31, 2009.

Dated: March 13, 2009.
Jeri Jensen,
Managing Director for Private Sector Initiatives, Millennium Challenge Corporation.

[FR Doc. E9-5865 Filed 3-17-09; 8:45 am]

BILLING CODE 9211-03-P